DEPARTMENT OF AGRICULTURE

Agricultural Marketing Service

7 CFR Parts 1005 and 1007

[Doc. No. AMS-DA-09-0001; AO-388-A17 and AO-366-A46; DA-05-06-A]

Milk in the Appalachian and Southeast Marketing Areas; Order Amending the Orders

Correction

In rule document 2014-10031, appearing on pages 25003 through 25006 in the issue of Friday, May 2, 2014, make the following correction:

On page 25003, in the first column, in the DATES section, “May 5, 2013” should read “May 5, 2014”.

[FR Doc. C1-2014-10031 Filed 5-8-14; 8:45 am]

BILLING CODE 1505-01-D